FEDERAL TRADE COMMISSION

16 CFR Part 313

RIN 3084-AB42

Amendment to the Privacy of Consumer Financial Information Rule Under the Gramm-Leach-Bliley Act

Correction

In proposed rule document 2015-14328 beginning on page 36267 in the issue of Wednesday, June 24, 2015, make the following correction:

On page 36268, in the first column, in the second full paragraph, in the second line, “August 17, 2015” should read “August 31, 2015”.

[FR Doc. C1-2015-14328 Filed 7-2-15; 8:45 am]

BILLING CODE 1505-01-D